DEPARTMENT OF DEFENSE

Department of the Army; Corps of Engineers

Intent To Prepare an Environmental Impact Statement/Environmental Impact Report for the Encinitas and Solana Beach Shoreline Protection Project, San Diego County, CA

AGENCY: Department of the Army, U.S. Army Corps of Engineers, DOD.

ACTION: Notice of Intent.

SUMMARY: The Los Angeles District intends to prepare an Environmental Impact Statement/Environmental Impact Report (EIS/EIR) to support a cost-shared feasibility study with the Cities of Encinitas and Solana Beach, CA, for shoreline protection along the coastline of these two cities. The purpose of the feasibility study is to evaluate alternatives for reducing shoreline erosion. The EIS/EIR will analyze potential impacts of the recommended plan and a range of alternatives for shoreline protection. Alternatives will include both structural and non-structural measures.

ADDRESSES: You may also submit your concerns in writing to the city or the Los Angeles District at the address below. Comments, suggestions, and requests to be placed on the mailing list for announcements should be sent to Larry Smith, U.S. Army Corps of Engineers, Los Angeles District, P.O. Box 532711, Los Angeles, CA 90053-2325, or email to lawrence.j.smith@usace.army.mil.

FOR FURTHER INFORMATION CONTACT: For further information contact Mr. Larry Smith, Project Environmental Coordinator, (213) 452-3846, or Ms. Susie Ming, Project Manager, (213) 452-3789.

SUPPLEMENTARY INFORMATION: Authorization: House Public Works Transportation Committee Resolution dated May 13, 1993. The Army Corps of Engineers intends to prepare an EIS/EIR to assess the environmental effects associated with proposed erosion mitigating measures in the study area.

Study Area: The study area is located along the Pacific Ocean coastline in the Cities of Encinitas and Solana Beach, San Diego County, CA. Encinitas is approximately 10 miles south of Oceanside Harbor, and 17 miles north of Point La Jolla. The City of Encinitas' shoreline, about 6 miles long, is bounded by Batiquitos Lagoon to the north and on the south by San Elijo Lagoon. The City of Solana Beach is bounded by San Elijo Lagoon to the north and on the south by the City of Del Mar. The City's shoreline is about 2 miles long for a total of about 8 miles of study area shoreline. A major portion of the shoreline segment consists of narrow sand and cobble beaches fronting nearshore bluffs. A small stretch of beach west of the San Elijo Lagoon is backed by Highway 101 (Pacific Coast Highway) and is the only segment of the beach not backed by coastal bluffs.

Problems and Needs: A number of public concerns have been identified including:

1. Bluff erosion threatens property, including state and city owned lands, roads, railroads and infrastructure, as well as private residences atop the bluffs.

2. Public safety due to episodic bluff failure.

3. Closure of Old Highway 101 at Cardiff during storm events.

4. Bluff toe erosion and curtailed recreation activity resulting from eroded beach conditions.

Proposed Action and Alternatives: The Los Angeles District will investigate and evaluate all reasonable alternatives to address the problems and needs identified above. In addition to the NO ACTION alternative, both structural (breakwaters, artificial reefs, groins, revetments, notch fills, and seawalls) and non-structural (best management practices, and beach nourishment) measures will be investigated.

Previous Actions: The Los Angeles District originally published a Notice of Intent for this project in the Federal Register on September 20, 2001. A Notice of Availability of the Draft EIS/EIR was published in the Federal Register on December 2, 2005. The project was modified following receipt of comments on the original Draft EIS/EIR. The modified project is the subject of this Notice of Intent.

Scoping: The scoping process is ongoing and has involved preliminary coordination with Federal, State, and local agencies. Two public scoping meetings are scheduled. The first on May 2, 2012, from 1 to 3 p.m. at City Hall, Poinsettia Room, 505 South Vulcan Avenue, Encinitas, CA. The second on May 2, 2012, from 6 to 8 p.m. at the Solana Beach City Hall, City Council Chamber, 635 South Highway 101, Solana Beach, CA. The public will have an opportunity to express opinions and raise any issues relating to the scope of the Feasibility Study and the EIS/EIR. The public as well as Federal, State, and local agencies are encouraged to participate by submitting data, information, and comments identifying relevant environmental and socioeconomic issues to be addressed in the study. Useful information includes other environmental studies, published and unpublished data, alternatives that could be addressed in the analysis, and potential mitigation measures associated with the proposed action. All comments enter into the public record. The scoping meetings will also serve as scoping meetings for the purposes of compliance with the California Environmental Quality Act (CEQA).

Availability of the Draft EIS/EIR: The Draft EIS/EIR is scheduled to be published and circulated in November 2012, and a public hearing to receive comments on the Draft EIS/EIR will be held after it is published.

Dated: April 9, 2012.
Steven B. Sigloch, Jr.,
Lieutenant Colonel, U.S. Army, Acting Commander and Acting District Engineer.

[FR Doc. 2012-9579 Filed 4-19-12; 8:45 am]

BILLING CODE 3720-58-P